DEPARTMENT OF HEALTH AND HUMAN SERVICES

Centers for Disease Control and Prevention

[60Day-14-14ARR]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Drug Overdose Response Investigation (DORI) Data Collections—New—National Center for Injury Prevention and Control (NCIPC), Centers for Disease Control and Prevention (CDC).

Background and Brief Description

State and local health authorities frequently call upon CDC's National Center for Injury Prevention and Control (NCIPC) to assist in their response to urgent public health problems resulting from drug use, misuse, abuse, and overdose. When called, NCIPC supports the states and local health authorities by conducting Drug Overdose Response Investigations (DORI), which entails a rapid and flexible epidemiological response. Urgent requests such as DORIs depend on the time and resources available, number of persons involved, and other circumstances unique to the urgent conditions at hand and usually involve the development of procedures, specific data collection instruments, and the collection of critical data.

This request is for a new generic approval to conduct information collections during DORIs. A three-year clearance is requested to ensure: (1) Rapid deployment data collection tools and (2) timely information collection of vital information. Of particular interest is response to increasing trends in, or changing characteristics of, overdose from prescription drugs (with a special interest in opioid analgesics such as oxycodone or methadone; benzodiazepines such as alprazolam) and/or illicit drugs (e.g., heroin).

Specifically, this request covers investigative collections with the following aims: (1) To understand sudden increases in drug use and misuse associated with fatal and nonfatal overdoses; (2) to understand the drivers and risk factors associated with those trends; and (3) to identify the groups most affected. This will allow CDC to effectively advise states on recommended actions to control local epidemics. Thus, the ultimate goals of these collections are to minimize adverse health consequences, provide epidemiological data collection support to the states and, based on the findings from the investigation, appropriately assist with implementation of prevention and control measures.

Data are collected by epidemiologists, psychologists, medical professionals, subject matter experts, and biostatisticians. Examples of data collection modes that may be employed during DORIs include: Archival record abstractions and reviews, face-to-face interviews, telephone interviews, web-based questionnaires, and self-administered questionnaires.

For example, information collected through archival chart review from hospitals and medical examiners could include demographics, drug use history, reported medical and mental health conditions, place of overdose, place of death, drug paraphernalia on the scene, mode of administration, observers present, naloxone administration, hospital admittance, autopsy findings, toxicology results, and so forth. Information collected through interviews with representatives from agencies involved in preventing, intervening, or responding to drug overdose could include professional history, personal experience with drug overdose cases or investigations, prevention or intervention efforts engaged in, perceptions of characteristics of or changes in drug overdose cases (e.g., transition from opioids to heroin; increasing or decreasing rates), and so forth. Collection of information from nonfatal overdose victims, and friends and family of overdose victims could include substance use history, prescription drug history, number of providers and pharmacies used, pain history, co-occurring health conditions (e.g., abnormal snoring indicative of respiratory depression), mental health conditions (e.g., depression, anxiety disorders), enrollment in drug treatment program, sources of drugs, route of drug administration, criminal history, and so forth. Finally, collection of spatial information could be obtained through city, county, and state government agencies to determine structural and environmental factors associated with location of overdose deaths.

Respondent type will also vary by investigation, but will include organizations typically involved in prevention, intervention, and response to drug overdose (e.g., public health, law enforcement authorities, health systems, and community organizations. Respondents also may include victims of non-fatal drug overdoses, as well as family and friends of victims.

During a DORI, data are collected once, with the rare need for follow-up. There are no costs to respondents other than their time.

Estimated Annualized Burden Hours
Type of respondent | Form name | Number of respondents | Number of responses per respondent | Average burden per response (in hours) | Total burden hours
Drug Overdose Response Investigation Participants | Drug Overdose Response Investigation Data Collection Instruments | 2,700 | 1 | .5 | 1,350
Total |  |  |  |  | 1,350

Leroy Richardson,
Chief, Information Collection Review Office, Office of Scientific Integrity, Office of the Associate Director for Science, Office of the Director, Centers for Disease Control and Prevention.

[FR Doc. 2014-19245 Filed 8-13-14; 8:45 am]

BILLING CODE 4163-18-P